DEPARTMENT OF TRANSPORTATION

Federal Aviation Administration

[Summary Notice No. PE-2000-46]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before October 8, 2000.

ADDRESSES: Send comments on any petition in triplicate to: Federal Aviation Administration, Office of the Chief Counsel, Attn: Rule Docket (AGC-200), Petition Docket No. ____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Dated: Issued in Washington, D.C., September 12, 2000.
Donald P. Byrne,
Assistant Chief Counsel for Regulations.

Dispositions of Petitions

Docket No.: 30070.

Petitioner: The Lancair Company.

Section of the FAR Affected: 14 CFR 47.65.

Description of Relief Sought/Disposition: To permit Lancair to obtain a Dealer's Aircraft Registration Certificate without meeting citizenship requirements. Grant, 08/30/00, Exemption No. 7330.

Docket No.: 24800.

Petitioner: Tennessee Air Cooperative, Inc.

Section of the FAR Affected: 14 CFR 103.1(e)(1).

Description of Relief Sought/Disposition: To permit TAC to operate powered ultralight vehicles with an empty weight of up to 350 pounds to accommodate physically disabled persons. Grant, 08/25/00, Exemption No. 5001F.

Docket No.: 12227.

Petitioner: National Business Aviation Association, Inc.

Section of the FAR Affected: 14 CFR 91.409(e) and 91.501(a).

Description of Relief Sought/Disposition: To permit NBAA members to operate small civil airplanes and helicopters of U.S. registry under the operating rules of §§ 91.503 through 91.535 and to select an inspection program as described in § 91.409(f). Grant, 08/25/00, Exemption No. 1637U.

Docket No.: 30101.

Petitioner: Garden State Chapter of the International Organization of Women Pilots.

Section of the FAR Affected: 14 CFR 135.251, 135.255, 135.353 and Appendixes I and J to part 121.

Description of Relief Sought/Disposition: To permit Garden State 99s to conduct local sightseeing flights at South Jersey Regional Airport, Mt. Holly, New Jersey, for its two-day Pennies a Pound event in September 2000, for compensation or hire, without complying with certain anti-drug and alcohol misuse prevention requirements of part 135. Grant, 08/29/00, Exemption No. 7328.

Docket No.: 30143.

Petitioner: Experimental Aircraft Association Chapter 1047 and Tar River Composite of the Civil Air Patrol.

Section of the FAR Affected: 14 CFR 135.251, 135.255, 135.353, and Apppendixes I and J to part 121.

Description of Relief Sought/Disposition: To permit EAA Chapter 1047 to conduct local sightseeing flights at the Wilson Industrial Center, Wilson, North Carolina, for a one-day open house event in September 2000, for compensation or hire, without complying with certain anti-drug and alcohol misuse prevention requirements of part 135. Grant, 08/29/00, Exemption No. 7329.

Docket No.: 30185.

Petitioner: Dr. Fred A. Collatz, III.

Section of the FAR Affected: 14 CFR 135.251, 135.255, 135.353 and Appendixes I and J to part 121.

Description of Relief Sought/Disposition: To permit Dr. Collatz to conduct local sightseeing flights in the vicinity of Manchester, Kentucky, for the Clay County Days Festival on August 31, 2000, through September 2, 2000, for compensation or hire, without complying with certain anti-drug and alcohol misuse prevention requirements of part 135. Grant, 08/31/00, Exemption No. 7331.

[FR Doc. 00-23815 Filed 9-15-00; 8:45 am]

BILLING CODE 4910-13-M